COMMITTEE FOR THE IMPLEMENTATION OF TEXTILE AGREEMENTS

Adjustment of an Import Limit for Certain Wool Textile Products Produced or Manufactured in Ukraine

December 4, 2006.

AGENCY: Committee for the Implementation of Textile Agreements (CITA).

ACTION: Issuing a directive to the Commissioner, Bureau of Customs and Border Protection adjusting a limit.

EFFECTIVE DATE: December 8, 2006.

FOR FURTHER INFORMATION CONTACT: Ross Arnold, International Trade Specialist, Office of Textiles and Apparel, U.S. Department of Commerce, (202) 482-4212. For information on the quota status of these limits, refer to the Bureau of Customs and Border Protection website (http://www.cbp.gov), or call (202) 344-2650. For information on embargoes and quota re-openings, refer to the Office of Textiles and Apparel website at http://otexa.ita.doc.gov.

SUPPLEMENTARY INFORMATION:

Authority: Section 204 of the Agricultural Act of 1956, as amended (7 U.S.C. 1854); Executive Order 11651 of March 3, 1972, as amended.

The Bilateral Textile Agreement of July 22, 1998, as amended and extended by exchange of notes on November 19, 2004, December 31, 2004, and February 7, 2005, between the Governments of the United States and Ukraine (the “Bilateral Agreement”) establishes limits for certain wool textile products, produced or manufactured in Ukraine and exported during the period beginning on January 1, 2006 and extending through December 31, 2006. On December 2, 2005, the Chairman of CITA directed the Commissioner, Bureau of Customs and Border Protection to reduce the 2006 Category 435 limit for carryforward to be applied to the 2005 limit. See Federal Register Notice, 70 FR 72992 (December 8, 2005). Because the carryforward was not fully used in 2005, consistent with paragraph 5.D. of the Bilateral Agreement, the current limit for Category 435 is being increased for the recrediting of unused 2005 carryforward.

A description of the textile and apparel categories in terms of HTS numbers is available in the CORRELATION: Textile and Apparel Categories with the Harmonized Tariff Schedule of the United States (refer to the Office of Textiles and Apparel website at http://otexa.ita.doc.gov). Also see Federal Register notice 70 FR 72992, published on December 8, 2005.

Philip J. Martello,
Acting Chairman, Committee for the Implementation of Textile Agreements.

Committee for the Implementation of Textile Agreements

December 4, 2006.

Commissioner,

Commissioner, Bureau of Customs and Border Protection, Washington, DC 20229

Dear Commissioner: This directive amends, but does not cancel, the directive issued to you on December 2, 2005, by the Chairman, Committee for the Implementation of Textile Agreements. That directive concerns imports of certain wool textile products, produced or manufactured in Ukraine and exported during the twelve-month period which began on January 1, 2006 and extends through December 31, 2006.

Effective on December 8, 2006, you are directed to increase the current limit for Category 435 to 110,160 dozen ¹, as provided for under the bilateral agreement between the Governments of the United States and Ukraine:

¹ The limit has not been adjusted to account for any imports exported after December 31, 2005.

The Committee for the Implementation of Textile Agreements has determined that this action falls within the foreign affairs exception to the rulemaking provisions of 5 U.S.C. 553(a)(1).

Sincerely,

Philip J. Martello,

Acting Chairman, Committee for the Implementation of Textile Agreements.

[FR Doc. E6-20942 Filed 12-7-06; 8:45 am]

BILLING CODE 3510-DS